DEPARTMENT OF ENERGY

Federal Energy Regulatory Commission

[Project Nos. 2181-014 and 2697-014 Wisconsin]

Northern States Power Company; Notice of Availability of Environmental Assessment

December 21, 2004.

In accordance with the National Environmental Policy Act of 1969, as amended, and Federal Energy Regulatory Commission (18 CFR part 380), Commission staff have reviewed the license applications for the Menomonie and Cedar Falls projects (FERC Project Nos. 2181 and 2697) and have prepared an environmental assessment (EA). The projects are located on the Red Cedar River in Dunn County, Wisconsin.

Northern States Power Company (d/b/a Xcel Energy) has requested Commission approval of the applications for new license along with the Red Cedar River Settlement Agreement (SA). This EA analyzes the potential environmental effects of relicensing the projects and the implementation of the SA, and concludes that issuing new licenses for the projects with appropriate environmental measures would not constitute a major federal action significantly affecting the quality of the human environment.

Copies of the EA are available for review in Public Reference Room 2-A of the Commission's offices at 888 First Street, NE., Washington, DC. The EA also may be viewed on the Commission's Internet Web site (http://www.ferc.gov) using the “eLibrary” link. Enter the docket number excluding the last three digits in the docket number field to access the document. For assistance with eLibrary, contact FERCONlineSupport@ferc.gov or call toll-free at (866) 208-3676; for TTY, contact (202) 502-8659.

Any comments on the EA should be filed within 30 days of the date of this notice and should be addressed to Magalie R. Salas, Secretary, Federal Energy Regulatory Commission, 888 First Street, NE., Washington, DC 20426. Please reference “Menomonie Project No. 2181-014 and Cedar Falls Project No. 2697-014” on all comments. Comments may be filed electronically via the Internet in lieu of paper. See 18 CFR 385.2001(a)(1)(iii) and the instructions on the Commission's Web site under the “e-Filing” link. For further information, contact John Ramer at (202) 502-8969.

Magalie R. Salas,
Secretary.

[FR Doc. E4-3852 Filed 12-28-04; 8:45 am]

BILLING CODE 6717-01-P